FEDERAL COMMUNICATIONS COMMISSION

47 CFR Part 73

[DA 02-2815; MM Docket Nos. 01-263, 01-264, 01-265, 01-266, 01-267; RM Nos. 10281, 10282, 10283, 10284, 10285]

Radio Broadcasting Services; Arkadelphia, Arkansas; Aspermont, Texas; Chino Valley, Arizona; Cotulla, Texas; Junction, TX

AGENCY: Federal Communications Commission.

ACTION: Final rule.

SUMMARY: In this document, the Audio Division allots new channels to Arkadelphia, AR, Aspermont, TX, Chino Valley, AZ, Cotulla, TX and Junction, TX in a multiple docket Report and Order. At the request of Maurice Salsa, Channel 292A is allotted at Junction, Texas, as the community's second commercial FM transmission service. Channel 292A is allotted at Junction without a site restriction at coordinates 30-29-21 NL and 99-46-18 WL. Mexican concurrence has been received for this allotment. At the request of Charles Crawford, Channel 223A is allotted at Chino Valley, Arizona as the community's second commercial FM transmission service. Channel 223A is allotted at Chino Valley at a site 6 kilometers (3.7 miles) west of the community at coordinates 34-46-10 NL and 112-31-03 WL. Mexican concurrence has been requested for this allotment. At the request of Charles Crawford, Channel 228A is allotted at Arkadelphia, Arkansas, as the community's second commercial FM transmission service. Channel 228A is allotted at Arkadelphia with a site restriction of 11.5 kilometers (7.2 miles) west of the community at coordinates 34-07-10 NL and 93-10-43 WL. See Supplementary Information.

DATES: Effective December 9, 2002.

ADDRESSES: Secretary, Federal Communications Commission, Washington, DC 20554. In addition to filing comments with the FCC, interested parties should serve the petitioners, as follows: Maurice Salsa, 5616 Evergreen Valley Drive, Kingwood, TX 77345 (petitioner for Junction, TX); Charles Crawford, 4553 Bordeaux Ave., Dallas, TX 75205 (petitioner for Chino Valley, AZ and Arkadelphia, AR); Jeraldine Anderson, 1702 Cypress Drive, Irving, TX 75061 (petitioner for Aspermont, TX and Cotulla, TX) .

FOR FURTHER INFORMATION CONTACT: Victoria M. McCauley, Media Bureau, (202) 418-2180.

SUPPLEMENTARY INFORMATION: This is a synopsis of the Commission's Report and Order, MM Docket Nos. 01-263, 01-264, 01-265, 01-266, and 01-267, adopted October 16, 2002, and released October 25, 2002. The full text of this Commission decision is available for inspection and copying during normal business hours in the FCC Reference Center (Room 239), 445 12th Street, SW., Washington, DC. This document may also be purchased from the Commission's duplicating contractor, Qualex International, Portals II, 445 12th Street, SW., Room CY-B402, Washington, DC, 20554, telephone 202-863-2893, facsimile 202-863-2898, or via e-mail qualexint@aol.com.

At the request of Jeraldine Anderson, Channel 226C2 is allotted at Aspermont, Texas, as the community's first local aural transmission service. Channel 226C2 is allotted at Aspermont with a site restriction of 6.7 kilometers (4.1 miles) at coordinates 33-11-27 NL and 100-14-50 WL.

At the request of Jeraldine Anderson, Channel 289A is allotted at Cotulla, Texas, as the community's second local aural service. Channel 289A is allotted at Cotulla with a site restriction of 5.0 kilometers (3.1 miles) southwest of the community at coordinates 28-24-57 NL and 99-16-49 WL. Mexican concurrence has been received for this allotment.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR § 1.1204(b) for rules governing permissible ex parte contacts.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334, and 336.

2. Section 73.202(b), the Table of FM Allotments under Arizona, is amended by adding Channel 223A at Chino Valley.

3. Section 73.202(b), the Table of FM Allotments under Arkansas, is amended by adding Channel 228A at Arkadelphia.

4. Section 73.202(b), the Table of FM Allotments under Texas, is amended by adding Aspermont, Channel 226C2, Channel 289A at Cotulla, and Channel 292A at Junction.

Federal Communications Commission.
John A. Karousos,
Assistant Chief, Audio Division, Media Bureau.

[FR Doc. 02-29579 Filed 11-20-02; 8:45 am]

BILLING CODE 6712-01-P